DEPARTMENT OF THE INTERIOR

Bureau of Land Management

[LLES962000 L14200000.B0000 15X]

Eastern States: Filing of Plats of Survey

AGENCY: Bureau of Land Management, Interior.

ACTION: Notice of filing of plats of survey; Wisconsin.

SUMMARY: The Bureau of Land Management (BLM) will officially file the plats of survey of the lands described below in the BLM-Eastern States Office, Washington, DC at least 30 calendar days from the date of publication in the Federal Register.

FOR FURTHER INFORMATION CONTACT: Bureau of Land Management, Eastern States Office, 20 M Street SE., Washington, DC 20003. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: These surveys were requested by the Bureau of Indian Affairs.

The lands surveyed are:

Fourth Principal Meridian, Wisconsin

T. 30 N., R. 16 E.

The plat of survey represents the Dependent Resurvey of a portion of the south boundary, a portion of the subdivisional lines, and a portion of the certified survey map recorded on Page 149, volume 2, in section 26, the retracement of a portion of the eastern right of way of county road “AA” in section 35, the survey of the subdivision of sections 25, 26, 35, and 36 and the western boundary of document No. 310, recorded on Page 31, volume 3, in section 35, and the informational traverse of the northern shore and a portion of the eastern shore of Vejo Lake in section 35 in Township 30 North, Range 16 East, of the 4th Principal Meridian, in the State of Wisconsin, and was accepted September 16, 2015.

Fourth Principal Meridian, Wisconsin

T. 51 N., R. 3 W.

The plat of survey represents the retracement of a portion of Blocks 4 and 5 of Buffalo's Subdivision and the retracement, resurvey and monumentation of specified lot and block corners and right of way intersection points, in Blocks 1, 2, and 3 of Buffalo's Subdivision, lands held in trust for the Red Cliff Band of Lake Superior Chippewa Indians in Government Lot 3, Section 31 of Township 51 North, Range 3 West, 4th Principle Meridian, in the State of Wisconsin, and was accepted September 1, 2015.

We will place a copy of the plats we described in the open files. They will be available to the public as a matter of information.

If BLM receives a protest against these surveys, as shown on the plats, prior to the date of the official filing, we will stay the filing pending our consideration of the protest.

We will not officially file the plats until the day after we have accepted or dismissed all protests and they have become final, including decisions on appeals.

Dated: October 7, 2015.
Dominica VanKoten,
Chief Cadastral Surveyor.

[FR Doc. 2015-26402 Filed 10-15-15; 8:45 am]

BILLING CODE P